COMMISSION ON CIVIL RIGHTS

Agenda and Notice of Public Meeting of the Oregon Advisory Committee; Correction

AGENCY: Commission on Civil Rights.

ACTION: Notice; correction.

SUMMARY: The Commission on Civil Rights published a notice in the Federal Register of February 3, 2017, concerning a meeting of the Oregon Advisory Committee. The notice is to replace the title of the notice from Nevada State Advisory Committee to Oregon Advisory Committee.

FOR FURTHER INFORMATION CONTACT: Ana Victoria Fortes, (213) 894-3437.

Correction

In the Federal Register of February 3, 2017, in FR Doc. 2017-02311, on page 9191, correct the title of the notice to read:

Notice of Public Meeting of the Oregon Advisory Committee

Dated: February 6, 2017.
David Mussatt,
Supervisory Chief, Regional Programs Coordination Unit.

[FR Doc. 2017-02713 Filed 2-8-17; 8:45 am]

BILLING CODE 6335-01-P